FEDERAL HOUSING FINANCE AGENCY

[No. 2009-N-09]

Federal Home Loan Bank Members Selected for Community Support Review

AGENCY: Federal Housing Finance Agency.

ACTION: Notice.

SUMMARY: The Federal Housing Finance Agency (FHFA) is announcing the Federal Home Loan Bank (Bank) members it has selected for the 2008-09 sixth quarter review cycle under the FHFA's community support requirements regulation. This notice also prescribes the deadline by which Bank members selected for review must submit Community Support Statements to FHFA.

DATES: Bank members selected for the review cycle under the FHFA's community support requirements regulation must submit completed Community Support Statements to FHFA on or before August 31, 2009.

ADDRESSES: Bank members selected for the 2008-09 sixth quarter review cycle under the FHFA's community support requirements regulation must submit completed Community Support Statements to FHFA either by hard-copy mail at the Federal Housing Finance Agency, Housing Mission and Goals, 1625 Eye Street, NW., Washington, DC 20006, or by electronic mail at LENORA.MORTON@FHFA.GOV.

FOR FURTHER INFORMATION CONTACT: Lenora Morton, Administrative Specialist, Housing Mission and Goals, Federal Housing Finance Agency, by telephone at 202-408-2819, by electronic mail at LENORA.MORTON@FHFA.GOV, or by hard-copy mail at the Federal Housing Finance Agency, 1625 Eye Street, NW., Washington, DC 20006.

SUPPLEMENTARY INFORMATION:

I. Selection for Community Support Review

Section 10(g)(1) of the Federal Home Loan Bank Act (Bank Act) requires FHFA to promulgate regulations establishing standards of community investment or service Bank members must meet in order to maintain access to long-term advances. See 12 U.S.C. 1430(g)(1). The regulations promulgated by FHFA must take into account factors such as the Bank member's performance under the Community Reinvestment Act of 1977 (CRA), 12 U.S.C. 2901 et seq., and record of lending to first-time homebuyers. See 12 U.S.C. 1430(g)(2). Pursuant to section 10(g) of the Bank Act, FHFA has promulgated a community support requirements regulation that establishes standards a Bank member must meet in order to maintain access to long-term advances, and review criteria FHFA must apply in evaluating a member's community support performance. See 12 CFR part 944. The regulation includes standards and criteria for the two statutory factors—CRA performance and record of lending to first-time homebuyers. 12 CFR 944.3. Only members subject to the CRA must meet the CRA standard. 12 CFR 944.3(b). All members, including those not subject to CRA, must meet the first-time homebuyer standard. 12 CFR 944.3(c).

Under the rule, FHFA selects approximately one-eighth of the members in each Bank district for community support review each calendar quarter. 12 CFR 944.2(a). FHFA will not review an institution's community support performance until it has been a Bank member for at least one year. Selection for review is not, nor should it be construed as, any indication of either the financial condition or the community support performance of the member.

Each Bank member selected for review must complete a Community Support Statement and submit it to FHFA by the August 31, 2009 deadline prescribed in this notice. 12 CFR 944.2(b)(1)(ii) and (c). On or before July 24, 2009, each Bank will notify the members in its district that have been selected for the 2008-09 sixth quarter community support review cycle that they must complete and submit to FHFA by the deadline a Community Support Statement. 12 CFR 944.2(b)(2)(i). The member's Bank will provide a blank Community Support Statement Form, which also is available on the FHFA's Web site: http://www.fhfa.gov. Upon request, the member's Bank also will provide assistance in completing the Community Support Statement.

FHFA has selected the following members for the 2008-09 sixth quarter community support review cycle:

Federal Home Loan Bank of Boston—District 1
The Community's Bank | Bridgeport | Connecticut.
The Bank of Fairfield | Fairfield | Connecticut.
Charter Oak FCU | Groton | Connecticut.
Bank of New Canaan | New Canaan | Connecticut.
The Bank of Southern Connecticut | New Haven | Connecticut.
Chelsea Groton SB | Norwich | Connecticut.
United Business & Industry FCU | Plainville | Connecticut.
Rockville Bank | Rockville | Connecticut.
Salisbury Bank & Trust Company | Salisbury | Connecticut.
Thomaston SB | Thomaston | Connecticut.
Connecticut River Community Bank | Wethersfield | Connecticut.
Savings Institute Bank and Trust Company | Willimantic | Connecticut.
Wilton Bank | Wilton | Connecticut.
360 FCU | Windsor Locks | Connecticut.
Kennebec SB | Augusta | Maine.
Bath Savings Institution | Bath | Maine.
Five County CU | Bath | Maine.
Brewer FCU | Brewer | Maine.
The County FCU | Caribou | Maine.
Maine Highlands FCU | Dexter | Maine.
Casco FCU | Gorham | Maine.
Maine Savings FCU | Hampden | Maine.
Androscoggin SB | Lewiston | Maine.
Penobscot FCU | Old Town | Maine.
Saco & Biddeford Savings Institution | Saco | Maine.
Sanford IFS | Sanford | Maine.
Hannaford Associates FCU | Scarborough | Maine.
Border Trust Company | South China | Maine.
Coast Line CU | South Portland | Maine.
Town and Country FCU | South Portland | Maine.
Leader Bank, NA | Arlington | Massachusetts.
Medical Area FCU | Boston | Massachusetts.
Mercantile Bank and Trust Company | Boston | Massachusetts.
University CU | Boston | Massachusetts.
The Community Bank | Brockton | Massachusetts.
Aldenville CU | Chicopee | Massachusetts.
Chicopee SB | Chicopee | Massachusetts.
Easthampton Savings | Easthampton | Massachusetts.
Martha's Vineyard SB | Edgartown | Massachusetts.
Bank of Fall River, A Co-Operative Bank | Fall River | Massachusetts.
GFA FCU | Gardner | Massachusetts.
Gloucester Co-Operative Bank | Gloucester | Massachusetts.
Avidia Bank | Hudson | Massachusetts.
Commonwealth Cooperative Bank | Hyde Park | Massachusetts.
Lee Bank | Lee | Massachusetts.
Lowell Five Cents SB | Lowell | Massachusetts.
Northern Massachusetts Telephone Workers Community CU | Lowell | Massachusetts.
Washington SB | Lowell | Massachusetts.
Community CU of Lynn | Lynn | Massachusetts.
Eastern Bank | Lynn | Massachusetts.
River Works CU | Lynn | Massachusetts.
St. Jean's CU | Lynn | Massachusetts.
National Grand Bank of Marblehead | Marblehead | Massachusetts.
Strata Bank | Medway | Massachusetts.
Middlesex Savings | Natick | Massachusetts.
Newburyport Five Cents SB | Newburyport | Massachusetts.
Merrimack Valley FCU | North Andover | Massachusetts.
North Easton SB | North Easton | Massachusetts.
Norword Cooperative Bank | Norwood | Massachusetts.
Seamen's Bank | Provincetown | Massachusetts.
Quincy CU | Quincy | Massachusetts.
Randolph Savings | Randolph | Massachusetts.
Granite SB | Rockport | Massachusetts.
Rockport National Bank | Rockport | Massachusetts.
Saugus FCU | Saugus | Massachusetts.
Cambridge Portuguese CU | Somerville | Massachusetts.
Stoughton Cooperative Bank | Stoughton | Massachusetts.
Walpole Co-Operative Bank | Walpole | Massachusetts.
Watertown SB | Watertown | Massachusetts.
United Bank | West Springfield | Massachusetts.
Weymouth Bank | Weymouth | Massachusetts.
Northern Bank and Trust Company | Woburn | Massachusetts.
First Colebrook Bank | Colebrook | New Hampshire.
Merrimack County SB | Concord | New Hampshire.
New Hampshire FCU | Concord | New Hampshire.
Laconia SB | Laconia | New Hampshire.
Mascoma SB | Lebanon | New Hampshire.
Meredith Village SB | Meredith | New Hampshire.
Bank of New England | Windham | New Hampshire.
Navagant CU | Central Falls | Rhode Island.
Independence Bank | East Greenwich | Rhode Island.
Freedom National Bank | Greenville | Rhode Island.
Greenwood CU | Warwick | Rhode Island.
Home Loan Investment Bank, FSB | Warwick | Rhode Island.
Westerly Community CU | Westerly | Rhode Island.
Northcountry FCU | South Burling | Vermont.
Federal Home Loan Bank of New York—District 2
BCB Community Bank | Bayonne | New Jersey.
Somerset Hills Bank | Bernardsville | New Jersey.
ISN Bank | Cherry Hill | New Jersey.
McGraw-Hill Employees FCU | East Windsor | New Jersey.
Mariner's Bank | Edgewater | New Jersey.
Select Bank | Egg Harbor Ci | New Jersey.
First Bank Americano | Elizabeth | New Jersey.
Fort Lee FSB | Fort Lee | New Jersey.
Peapack-Gladstone Bank | Gladstone | New Jersey.
Skylands Community Bank | Hackettstown | New Jersey.
Haddon SB | Haddon Height | New Jersey.
Gibraltar SB | Mendham | New Jersey.
Two River Community Bank | Middletown | New Jersey.
Cornerstone Bank | Moorestown | New Jersey.
New Millennium Bank | New Brunswick | New Jersey.
New Community FCU | Newark | New Jersey.
Lakeland Bank | Oak Ridge | New Jersey.
Crown Bank | Ocean City | New Jersey.
Hopewell Valley Community Bank | Pennington | New Jersey.
RSI Bank | Rahway | New Jersey.
Heritage Community Bank | Randolph | New Jersey.
Rumson-Fair Haven Bank & Trust Company | Rumson | New Jersey.
Allegiance Community Bank | South Orange | New Jersey.
First Financial FCU | Toms River | New Jersey.
First Bank | Williamstown | New Jersey.
Flatbush Federal Savings and Loan Association | Brooklyn | New York.
Manufacturers and Traders Trust Company | Buffalo | New York.
Bank of Greene County | Catskill | New York.
Bank of Cattaraugus | Cattaraugus | New York.
Fairport SB | Fairport | New York.
USNY Bank | Geneva | New York.
Trustco Bank | Glenville | New York.
Highland Falls Federal Savings & Loan | Highland Fall | New York.
Steuben Trust Company | Hornell | New York.
First National Bank of Long Island (The) | Huntington | New York.
New York Commercial Bank | Islandia | New York.
Ulster SB | Kingston | New York.
Community Resource FCU | Latham | New York.
United Nations FCU | Long Island C | New York.
The Mahopac National Bank | Mahopac | New York.
Suffolk FCU | Medford | New York.
Utica Gas & Electric Employees FCU | New Hartford | New York.
Alpine Capital Bank | New York | New York.
BPD International Bank | New York | New York.
Habib American Bank | New York | New York.
Merrill Lynch Bank & Trust Company, FSB | New York | New York.
Park Avenue Bank (The) | New York | New York.
Signature Bank | New York | New York.
Sterling National Bank | New York | New York.
Woori America Bank | New York | New York.
Intervest National Bank | New York | New York.
TEG FCU | Poughkeepsie | New York.
Quorum FCU | Purchase | New York.
NorthEastern Engineers FCU | Richmond Hill | New York.
Bank of Richmondville | Richmondville | New York.
Summit FCU | Rochester | New York.
Rome SB (The) | Rome | New York.
Sunmark FCU | Schenectady | New York.
Sidney FCU | Sidney | New York.
Solvay Bank | Solvay | New York.
Victory State Bank | Staten Island | New York.
Walden SB | Walden | New York.
Watertown SB | Watertown | New York.
Champlain National Bank | Willsboro | New York.
Community FSB | Woodhaven | New York.
Banco Popular De Puerto Rico | Hato Rey | Puerto Rico.
Federal Home Loan Bank of Pittsburgh—District 3
The Bancorp Bank | Wilmington | Delaware.
Lehigh Valley Educators CU | Allentown | Pennsylvania.
Enterprise Bank | Allison Park | Pennsylvania.
Apollo Trust Company | Apollo | Pennsylvania.
Sun East FCU | Aston | Pennsylvania.
Merchants Bank of Bangor | Bangor | Pennsylvania.
Integrity Bank | Camp Hill | Pennsylvania.
The Farmers and Merchants Trust Company | Chambersburg | Pennsylvania.
Conestoga Bank | Chester Spring | Pennsylvania.
Cambria County Federal Savings & Loan | Cresson | Pennsylvania.
DNB First, National Association | Downingtown | Pennsylvania.
Elderton State Bank | Elderton | Pennsylvania.
The First National Bank of Fredericksburg | Fredericksburg | Pennsylvania.
PeoplesBank, a Corodrus Valley Co | Glen Rock | Pennsylvania.
The Gratz National Bank | Gratz | Pennsylvania.
The Harleysville National Banking & Trust Co | Harleysville | Pennsylvania.
Jersey Shore State Bank | Jersey Shore | Pennsylvania.
First Cornerstone Bank | King of Prussia | Pennsylvania.
Reliance FCU | King of Prussia | Pennsylvania.
Bank of Landisburg | Landisburg | Pennsylvania.
The First National Bank of Liverpool | Liverpool | Pennsylvania.
The Mars National Bank | Mars | Pennsylvania.
Union National Bank of Mount Carmel | Mount Carmel | Pennsylvania.
New Tripoli Bank | New Tripoli | Pennsylvania.
Orrstown Bank | Orrstown | Pennsylvania.
Police and Fire FCU | Philadelphia | Pennsylvania.
St. Edmond's, FSB | Philadelphia | Pennsylvania.
Phoenixville Federal Bank & Trust | Phoenixville | Pennsylvania.
Mainline National Bank | Portage | Pennsylvania.
Diamond CU | Pottstown | Pennsylvania.
Scottdale Bank & Trust Company | Scottdale | Pennsylvania.
Apex Community FCU | Stowe | Pennsylvania.
York Traditions Bank | York | Pennsylvania.
Freedom Bank, Inc | Belington | West Virginia.
Clear Mountain Bank | Bruceton Mill | West Virginia.
First Bank of Charleston, Inc | Charleston | West Virginia.
Summit Community Bank, Inc | Charleston | West Virginia.
Fairmont FCU | Fairmont | West Virginia.
First Exchange Bank | Mannington | West Virginia.
Northern Hancock Bank & Trust Company | Newell | West Virginia.
FNB Bank, Inc | Romney | West Virginia.
West Union Bank | West Union | West Virginia.
Main Street Bank Corporation | Wheeling | West Virginia.
Federal Home Loan Bank of Atlanta—District 4
Aliant Bank | Alexander City | Alabama.
Auburn Bank | Auburn | Alabama.
Mutual Savings CU | Birmingham | Alabama.
The First National Bank of Brundidge | Brundidge | Alabama.
Traditions Bank | Cullman | Alabama.
The First National Bank of Dozier | Dozier | Alabama.
Community Banking & Trust Company of Southeast Alabama | Enterprise | Alabama.
Bank of Evergreen | Evergreen | Alabama.
First National Bank of Baldwin County | Foley | Alabama.
First State Bank of DeKalb County | Fort Payne | Alabama.
Citizens Bank & Trust | Guntersville | Alabama.
Merchants Bank | Hanceville | Alabama.
First Commercial Bank | Huntsville | Alabama.
Redstone FCU | Huntsville | Alabama.
Corporate America CU | Irondale | Alabama.
Covenant Bank | Leeds | Alabama.
Peachtree Bank | Maplesville | Alabama.
Colonial Bank | Montgomery | Alabama.
The North Jackson Bank | Stevenson | Alabama.
First State Bank of the South, Inc | Sulligent | Alabama.
The Bank of Tuscaloosa | Tuscaloosa | Alabama.
First Community Bank of Central Alabama | Wetumpka | Alabama.
Bank of Georgetown | Washington | District of Columbia.
Department of Commerce FCU | Washington | District of Columbia.
Treasury Department Federal Credit Union | Washington | District of Columbia.
The First State Bank of Arcadia | Arcadia | Florida.
Central Florida State Bank | Belleview | Florida.
1st United Bank | Boca Raton | Florida.
Palm Beach Community Bank | Boynton Beach | Florida.
Harvesters FCU | Cantonment | Florida.
Wakulla Bank | Crawfordville | Florida.
Floridian Community Bank, Inc | Davie | Florida.
Peninsula Bank | Englewood | Florida.
Bank of Florida | Fort Lauderdale | Florida.
Valley Bank | Fort Lauderdale | Florida.
Florida Gulf Bank | Fort Myers | Florida.
Preferred Community Bank | Fort Myers | Florida.
Riverside National Bank of Florida | Fort Pierce | Florida.
Florida CU | Gainesville | Florida.
Peoples Bank of Graceville | Graceville | Florida.
Home Federal Bank of Hollywood | Hollywood | Florida.
CenterBank of Jacksonville, NA | Jacksonville | Florida.
Jax FCU | Jacksonville | Florida.
Oceanside Bank | Jacksonville | Florida.
Citizens First Bank | Lady Lake | Florida.
Peoples State Bank | Lake City | Florida.
Coastal Bank | Merritt Island | Florida.
Premier American Bank | Miami | Florida.
Sunstate Bank | Miami | Florida.
Union Credit Bank | Miami | Florida.
University CU | Miami | Florida.
The First National Bank of Florida | Milton | Florida.
Bank of Florida—Southwest | Naples | Florida.
Royal Palm Bank of Florida | Naples | Florida.
Shamrock Bank of Florida | Naples | Florida.
Jefferson Bank of Florida | Oldsmar | Florida.
Independent Banker's Bank of Florida | Orlando | Florida.
Insight Financial CU | Orlando | Florida.
East Coast Community Bank | Ormond Beach | Florida.
Putnam State Bank | Palatka | Florida.
Southbank, FSB | Palm Beach Garden | Florida.
First National Bank Northwest Florida | Panama City | Florida.
Summit Bank, N.A | Panama City | Florida.
Gulf Coast Community Bank | Pensacola | Florida.
Hillsboro Bank | Plant City | Florida.
Sunshine State Community Bank | Port Orange | Florida.
Bayside SB | Port St. Joe | Florida.
Sanibel Captiva Community Bank | Sanibel | Florida.
Bank of Commerce | Sarasota | Florida.
Gateway Bank of Southwest Florida | Sarasota | Florida.
Sabal Palm Bank | Sarasota | Florida.
Seacoast National Bank | Stuart | Florida.
Sunshine SB | Tallahassee | Florida.
Bay Gulf CU | Tampa | Florida.
Century Bank of Florida | Tampa | Florida.
First Commercial Bank of Tampa | Tampa | Florida.
Florida Bank | Tampa | Florida.
Palm Bank | Tampa | Florida.
The Bank of Tampa | Tampa | Florida.
Community NB of Sarasota County | Venice | Florida.
Commerce National Bank of Florida | Winter Park | Florida.
First National Bank of Central Florida | Winter Park | Florida.
Riverside Bank of Central Florida | Winter Park | Florida.
Centerstate Bank West Florida, N.A | Zephyrhills | Florida.
First American Bank and Trust Company | Athens | Georgia.
Bank of Atlanta | Atlanta | Georgia.
Georgia Commerce Bank | Atlanta | Georgia.
Georgia Primary Bank | Atlanta | Georgia.
Resurgens Bank | Atlanta | Georgia.
Planters & Citizens Bank | Camilla | Georgia.
McIntosh Commercial Bank | Carrollton | Georgia.
Century Bank of Georgia | Cartersville | Georgia.
The First National Bank of Chatsworth | Chatsworth | Georgia.
Mountain Heritage Bank | Clayton | Georgia.
Citizens Bank of Cochran | Cochran | Georgia.
State Bank of Cochran | Cochran | Georgia.
Merchants & Farmers Bank of Comer | Comer | Georgia.
Eastside Commercial Bank | Conyers | Georgia.
First State Bank of Randolph County | Cuthbert | Georgia.
First Intercontinental Bank | Doraville | Georgia.
Douglas National Bank | Douglas | Georgia.
Metro Bank | Douglasville | Georgia.
Gwinnett Community Bank | Duluth | Georgia.
Citizens Bank and Trust Company | Eastman | Georgia.
Southern Community Bank | Fayetteville | Georgia.
First National Bank | Folkston | Georgia.
National Bank of Gainesville | Gainesville | Georgia.
The Glennville Bank and Trust Company | Glennville | Georgia.
Bank of Hazlehurst | Hazlehurst | Georgia.
Heritage Bank | Hinesville | Georgia.
Farmers and Merchants Bank | Lakeland | Georgia.
Brand Banking Company | Lawrenceville | Georgia.
Atlantic Southern Bank | Macon | Georgia.
MidSouth FCU | Macon | Georgia.
Security Bank of Bibb County | Macon | Georgia.
Southwest Georgia Bank | Moultrie | Georgia.
Bank of Coweta | Newnan | Georgia.
Associated CU | Norcross | Georgia.
Georgian Bank | Powder Spring | Georgia.
Heritage First Bank | Rome | Georgia.
Carver State Bank | Savannah | Georgia.
First Chatham Bank | Savannah | Georgia.
Bank of Soperton | Soperton | Georgia.
United Security Bank | Sparta | Georgia.
First Southern National Bank | Statesboro | Georgia.
The First State Bank | Stockbridge | Georgia.
Security Bank of Gwinnett County | Suwannee | Georgia.
Citizens Bank of Swainsboro | Swainsboro | Georgia.
Bank of Upson | Thomaston | Georgia.
Thomasville National Bank | Thomasville | Georgia.
Community Bank of West Georgia | Villa Rica | Georgia.
North Georgia Bank | Watkinsville | Georgia.
Atlantic Coast Bank | Waycross | Georgia.
First Cherokee State Bank | Woodstock | Georgia.
Security Bank of North Metro | Woodstock | Georgia.
First State Bank | Wrens | Georgia.
Bank of Wrightsville | Wrightsville | Georgia.
Bradford Bank | Baltimore | Maryland.
Kopernik Federal Bank | Baltimore | Maryland.
Legg Mason Trust Company, National Association | Baltimore | Maryland.
Liberty FS & LA | Baltimore | Maryland.
Slavie FSB | Baltimore | Maryland.
United Medical Bank, FSB | Baltimore | Maryland.
The National Bank of Cambridge | Cambridge | Maryland.
Chesapeake Bank and Trust Company | Chestertown | Maryland.
BlueRidge Bank | Frederick | Maryland.
Mid-Atlanta FCU | Gaithersburg | Maryland.
Hagerstown Trust Company | Hagerstown | Maryland.
Lafayette FCU | Kensington | Maryland.
Tower FCU | Laurel | Maryland.
The New Windsor State Bank | New Windsor | Maryland.
First United Bank & Trust | Oakland | Maryland.
The National Bank of Rising Sun | Rising Sun | Maryland.
Bank of Stanly | Albemarle | North Carolina.
Home SB of Albemarle, SSB | Albemarle | North Carolina.
Vantage South Bank | Burlington | North Carolina.
Harrington Bank, FSB | Chapel Hill | North Carolina.
HomeTrust Bank | Clyde | North Carolina.
Cabarrus Bank & Trust Company | Concord | North Carolina.
Self-help CU | Durham | North Carolina.
Self-Help FCU | Durham | North Carolina.
Farmers & Merchants Bank | Granite Quarry | North Carolina.
First Carolina Corporate CU | Greensboro | North Carolina.
Premier Commercial Bank | Greensboro | North Carolina.
Millennia Community Bank | Greenville | North Carolina.
First Flight FCU | Havelock | North Carolina.
Carolina Trust Bank | Lincolnton | North Carolina.
Surrey Bank & Trust | Mount Airy | North Carolina.
Bank of Oak Ridge | Oak Ridge | North Carolina.
Capital Bank | Raleigh | North Carolina.
First National Bank of Shelby | Shelby | North Carolina.
Allegacy FCU | Winston-Salem | North Carolina.
Members CU | Winston-Salem | North Carolina.
Community FirstBank of Charleston | Charleston | South Carolina.
Palmetto Citizens FCU | Columbia | South Carolina.
Cornerstone National Bank | Easley | South Carolina.
Sharonview FCU | Fort Mill | South Carolina.
SPC Cooperative CU | Hartsville | South Carolina.
Farmers and Merchants Bank | Holly Hill | South Carolina.
Carolina Trust FCU | Myrtle Beach | South Carolina.
SCBT, National Association | Orangeburg | South Carolina.
First South Bank | Spartanburg | South Carolina.
Pentagon FCU | Alexandria | Virginia.
Shiloh of Alexandria FCU | Alexandria | Virginia.
E*Trade Bank | Arlington | Virginia.
Justice FCU | Chantilly | Virginia.
American National Bank & Trust Co | Danville | Virginia.
Fairfax County FCU | Fairfax | Virginia.
Constellation FCU | Falls Church | Virginia.
The Bank of Fincastle | Fincastle | Virginia.
First Capital Bank | Glen Allen | Virginia.
Northwest FCU | Herndon | Virginia.
New Peoples Bank | Honaker | Virginia.
Synergy One FCU | Manassas | Virginia.
Capital One, National Association | McLean | Virginia.
The Middleburg Bank | Middleburg | Virginia.
1st Advantage FCU | Newport News | Virginia.
First Sentinel Bank | Richlands | Virginia.
Dupont Fibers FCU | Richmond | Virginia.
Virginia CU, Inc | Richmond | Virginia.
Freedom First FCU | Roanoke | Virginia.
Franklin Community Bank, NA | Rocky Mount | Virginia.
Pioneer Bank | Stanley | Virginia.
First Bank | Strasburg | Virginia.
Northern Neck State Bank | Warsaw | Virginia.
Frontier Community Bank | Waynesboro | Virginia.
Baylands FCU | West Point | Virginia.
Citizens and Farmers Bank | West Point | Virginia.
Federal Home Loan Bank of Cincinnati—District 5
Ashland CU | Ashland | Kentucky.
Bedford Loan & Deposit Bank | Bedford | Kentucky.
South Central Bank of Bowling Green, Inc | Bowling Green | Kentucky.
Meade County Bank | Brandenburg | Kentucky.
Bank of Ohio County | Dundee | Kentucky.
First Security Trust Bank, Inc | Florence | Kentucky.
Victory Community Bank | Fort Mitchell | Kentucky.
Edmonton State Bank | Glasgow | Kentucky.
South Central Bank of Barre | Glasgow | Kentucky.
Bank of Harlan | Harlan | Kentucky.
Lawrenceburg Bank and Trust Company | Harrodsburg | Kentucky.
Bank of Hindman | Hindman | Kentucky.
First Security Bank of Kentucky | Island | Kentucky.
The Farmers National Bank of Lebanon | Lebanon | Kentucky.
Forcht Bank, National Association | Lexington | Kentucky.
GTKY CU | Lexington | Kentucky.
Liberty Alliance FCU | Lexington | Kentucky.
Members Heritage FCU | Lexington | Kentucky.
Commonwealth Bank & Trust Co | Louisville | Kentucky.
Central Bank of Jefferson County | Louisville | Kentucky.
Jefferson County FCU | Louisville | Kentucky.
Park Community FCU | Louisville | Kentucky.
PBI Bank | Louisville | Kentucky.
Rural Cooperatives CU | Louisville | Kentucky.
United Community Bank of West Kentucky, Inc | Morganfield | Kentucky.
Morgantown Bank & Trust Co | Morgantown | Kentucky.
Central Bank, FSB | Nicholasville | Kentucky.
First State Financial, Inc. | Pineville | Kentucky.
First & Peoples Bank and Trust Co | Russell | Kentucky.
First & Farmers National Bank, Inc | Somerset | Kentucky.
Bank of McCreary County | Whitley City | Kentucky.
Grant County Deposit Bank | Williamstown | Kentucky.
Firestone FCU | Akron | Ohio.
Firstmerit Bank, National Association | Akron | Ohio.
GenFed FCU | Akron | Ohio.
Firelands FCU | Bellevue | Ohio.
Bethel Building & Loan Company | Bethel | Ohio.
Equitable S&L Co | Cadiz | Ohio.
Advantage Bank | Cambridge | Ohio.
Dynamic FCU | Celina | Ohio.
Cincinnati Federal Employees FCU | Cincinnati | Ohio.
Fifth Third Bank | Cincinnati | Ohio.
Fort Washington Savings Company | Cincinnati | Ohio.
General Electric CU | Cincinnati | Ohio.
Guardian SB | Cincinnati | Ohio.
Mt. Washington Savings & Loan | Cincinnati | Ohio.
U.S. Bank, National Association | Cincinnati | Ohio.
Cme FCU | Columbus | Ohio.
Corporate One FCU | Columbus | Ohio.
OhioHealth FCU | Columbus | Ohio.
Telhio CU, Inc | Columbus | Ohio.
Dayton Firefighters FCU | Dayton | Ohio.
BMI FCU | Dublin | Ohio.
Eaton National Bank and Trust Co | Eaton | Ohio.
Wright-Pattman CU | Fairborn | Ohio.
Community First Bank, N.A | Forest | Ohio.
First Ohio CU Inc | Fostoria | Ohio.
Community National Bank | Franklin | Ohio.
Galion Building and Loan Bank | Galion | Ohio.
Ohio Catholic FCU | Garfield Heights | Ohio.
The Home B & Lc | Greenfield | Ohio.
Greenville National Bank | Greenville | Ohio.
Harvest FCU | Heath | Ohio.
Hopewell FCU | Heath | Ohio.
Jeep Country FCU | Holland | Ohio.
Sun Center FCU | Lagrange | Ohio.
Superior FCU | Lima | Ohio.
First FS&LA | Lorain | Ohio.
CenterBank | Milford | Ohio.
RiverHills Bank | New Richmond | Ohio.
Geauga SB | Newbury | Ohio.
Bay Area CU, Inc | Oregon | Ohio.
Home National Bank | Racine | Ohio.
Ripley FSB | Ripley | Ohio.
Strasburg SB | Strasburg | Ohio.
Directions CU | Sylvania | Ohio.
Signature Bank, N.A | Toledo | Ohio.
Liberty Bank, N.A | Twinsburg | Ohio.
The Peoples SB | Urbana | Ohio.
First FS&LA of Van Wert | Van Wert | Ohio.
People's Community Bank | West Chester | Ohio.
First State Bank of Adams County | Winchester | Ohio.
Ohio Legacy Bank, NA | Wooster | Ohio.
Dollar Bank, FSB | Pittsburgh | Pennsylvania.
SouthEast Bank & Trust | Athens | Tennessee.
The Citizens NB of Athens | Athens | Tennessee.
Citizens Bank | Carthage | Tennessee.
Tennessee Valley FCU | Chattanooga | Tennessee.
Cumberland Bank & Trust Company | Clarksville | Tennessee.
First Farmers and Merchants Bank | Columbia | Tennessee.
Bank of Putnam County | Cookeville | Tennessee.
Rhea County National Bank | Dayton | Tennessee.
First Federal Bank | Dickson | Tennessee.
Carter County Bank | Elizabethton | Tennessee.
Gates Banking & Trust Co | Gates | Tennessee.
Tennessee State Bank | Gatlinburg | Tennessee.
Bank of Gleason | Gleason | Tennessee.
American Patriot Bank | Greeneville | Tennessee.
GreenBank | Greeneville | Tennessee.
Bank of Halls | Halls | Tennessee.
Commercial Bank | Harrogate | Tennessee.
Chester County Bank | Henderson | Tennessee.
Union Bank | Jamestown | Tennessee.
Citizens State Bank | Jasper | Tennessee.
Bank of Tennessee | Kingsport | Tennessee.
Holston Valley CU | Kingsport | Tennessee.
Clayton Bank and Trust | Knoxville | Tennessee.
First Freedom Bank | Lebanon | Tennessee.
First Bank | Lexington | Tennessee.
American B&T of CUMB | Livingston | Tennessee.
Fedex Employees Credit Association FCU | Memphis | Tennessee.
Bank of Milan (The) | Milan | Tennessee.
Patriot Bank | Millington | Tennessee.
Jefferson Federal Bank | Morristown | Tennessee.
Volunteer Corporate CU | Nashville | Tennessee.
Tennessee Members 1st FCU | Oak Ridge | Tennessee.
Y-12 FCU | Oak Ridge | Tennessee.
Commercial B&T Co | Paris | Tennessee.
Security B&T Co | Paris | Tennessee.
Community South Bank | Parsons | Tennessee.
Farmers Bank (The) | Portland | Tennessee.
Central Bank | Savannah | Tennessee.
Citizens National Bank | Sevierville | Tennessee.
Mountain National Bank | Sevierville | Tennessee.
1ST Community Bank of Bedford | Shelbyville | Tennessee.
People Bank of Bedford County | Shelbyville | Tennessee.
First Bank of Tennessee | Spring City | Tennessee.
Farmer's and Merchants Bank | Trezevant | Tennessee.
American City Bank | Tullahoma | Tennessee.
Reelfoot Bank | Union City | Tennessee.
Citizens First Bank | Wartburg | Tennessee.
Federal Home Loan Bank of Indianapolis—District 6
First National Bank | Cloverdale | Indiana.
Centra CU | Columbus | Indiana.
Irwin Union Bank, FSB | Columbus | Indiana.
Crane FCU | Crane | Indiana.
CSB Bank | Cynthiana | Indiana.
Bank of Evansville | Evansville | Indiana.
Three Rivers FCU | Fort Wayne | Indiana.
Tower Bank and Trust Company | Fort Wayne | Indiana.
Heartland Community Bank | Franklin | Indiana.
Grabill Bank | Grabill | Indiana.
Greenfield Banking Company | Greenfield | Indiana.
Finance Center FCU | Indianapolis | Indiana.
Community First Bank of Howard County | Kokomo | Indiana.
Solidarity Community FCU | Kokomo | Indiana.
Lafayette SB | Lafayette | Indiana.
State Bank of Lizton | Lizton | Indiana.
Peoples Savings & Loan Association | Monticello | Indiana.
Ball State FCU | Muncie | Indiana.
WGE FCU | Muncie | Indiana.
The Napoleon State Bank | Napoleon | Indiana.
New Washington State Bank (The) | New Washington | Indiana.
Heritage FCU | Newburgh | Indiana.
American T&S Bank of Whiting | Whiting | Indiana.
Firstbank—ALMA | Alma | Michigan.
Bank of Alpena | Alpena | Michigan.
Bank of Ann Arbor | Ann Arbor | Michigan.
Signature Bank | Bad Axe | Michigan.
Lake Osceola State Bank | Baldwin | Michigan.
Kellogg Community FCU | Battle Creek | Michigan.
Central State Bank | Beulah | Michigan.
Clarkston State Bank | Clarkston | Michigan.
Michigan Schools and Government CU | Clinton Towns | Michigan.
Motor City CO-OP CU | Clinton Towns | Michigan.
Eastern Michigan Bank | Croswell | Michigan.
Auto Club Trust, FSB | Dearborn | Michigan.
DFCU Financial CU | Dearborn | Michigan.
Summit Community Bank | East Lansing | Michigan.
State Bank of Ewen | Ewen | Michigan.
CU One | Ferndale | Michigan.
Financial Plus FCU | Flint | Michigan.
Frankenmuth CU | Frankenmuth | Michigan.
Community West CU | Grand Rapids | Michigan.
Hillsdale County National Bank | Hillsdale | Michigan.
Macatawa Bank | Holland | Michigan.
Independent Bank | Ionia | Michigan.
CP FCU | Jackson | Michigan.
Consumers CU | Kalamazoo | Michigan.
Educational Community CU | Kalamazoo | Michigan.
Keystone Community Bank | Kalamazoo | Michigan.
Case CU | Lansing | Michigan.
Community Choice CU | Livonia | Michigan.
Co-operative Services CU | Livonia | Michigan.
Marshall Community CU | Marshall | Michigan.
Members First CU | Midland | Michigan.
Monroe County Community CU | Monroe | Michigan.
Community Central Bank | Mount Clemens | Michigan.
FirstBank | Mount Pleasant | Michigan.
Community Shores Bank | Muskegon | Michigan.
Range Bank, N.A | Negaunee | Michigan.
The First National Bank of Norway | Norway | Michigan.
New Liberty Bank | Plymouth | Michigan.
North Central Area CU | Roscommon | Michigan.
Christian Financial CU | Roseville | Michigan.
United Financial CU | Saginaw | Michigan.
United FCU | Saint Joseph | Michigan.
Sterling Bank & Trust FSB | Southfield | Michigan.
Seaway Community Bank | St. Clair | Michigan.
Lakeside Community Bank | Sterling Heig | Michigan.
SSBBank | Stockbridge | Michigan.
First Catholic FCU | Taylor | Michigan.
United Bank & Trust | Tecumseh | Michigan.
Members CU | Traverse City | Michigan.
TBA CU | Traverse City | Michigan.
Michigan Catholic CU | Troy | Michigan.
Federal Home Loan Bank of Chicago—District 7
Country Bank | Aledo | Illinois.
Liberty Bank | Alton | Illinois.
The First National Bank in Amboy | Amboy | Illinois.
Apple River State Bank | Apple River | Illinois.
Meadows CU | Arlington Heights | Illinois.
Barrington Bank and Trust Company, N.A | Barrington | Illinois.
The First National Bank of Barry | Barry | Illinois.
Bank of Bourbonnais | Bourbonnais | Illinois.
1st Equity Bank Northwest | Buffalo Grove | Illinois.
Illiana Financial CU | Calumet City | Illinois.
First Southern Bank | Carbondale | Illinois.
Casey State Bank | Casey | Illinois.
Preferred Bank | Casey | Illinois.
State Bank Cerro Gordo | Cerro Gordo | Illinois.
Bank Champaign, N.A | Champaign | Illinois.
Citizens Bank of Chatsworth | Chatsworth | Illinois.
Delaware Place Bank | Chicago | Illinois.
First Nations Bank | Chicago | Illinois.
Gold Coast Bank | Chicago | Illinois.
Hyde Park Bank and Trust Company | Chicago | Illinois.
Marquette Bank | Chicago | Illinois.
Metropolitan Bank and Trust Company | Chicago | Illinois.
North Community Bank | Chicago | Illinois.
PNA Bank | Chicago | Illinois.
ShoreBank | Chicago | Illinois.
The First Commercial Bank | Chicago | Illinois.
Clay City Banking Company | Clay City | Illinois.
Peoples State Bank of Colfax | Colfax | Illinois.
Citizens State Bank of Cropsey | Cropsey | Illinois.
First National Bank of Danville | Danville | Illinois.
Resource Bank, NA | Dekalb | Illinois.
Dewey State Bank | Dewey | Illinois.
Du Quoin State Bank | Du Quion | Illinois.
Bank of Dwight | Dwight | Illinois.
DHCU Community CU | East Moline | Illinois.
First Clover Leaf Bank, FSB | Edwardsville | Illinois.
Crossroads Bank | Effingham | Illinois.
Suburban Bank & Trust Company | Elmhurst | Illinois.
Midwest Bank and Trust Company | Elmwood Park | Illinois.
Farmer City State Bank | Farmer City | Illinois.
The Fisher National Bank | Fisher | Illinois.
Flanagan State Bank | Flanagan | Illinois.
Franklin Bank | Franklin | Illinois.
Cornerstone CU | Freeport | Illinois.
Midwest Community Bank | Freeport | Illinois.
State Bank | Freeport | Illinois.
Galena State Bank & Trust Co | Galena | Illinois.
German-American State Bank | German Valley | Illinois.
The First National Bank of Gilman | Gilman | Illinois.
Grand Rivers Community Bank | Grand Chain | Illinois.
State Bank of Graymont | Graymont | Illinois.
Henry State Bank | Henry | Illinois.
First Community Bank of Hillsboro | Hillsboro | Illinois.
Charter National Bank and Trust | Hoffman Estates | Illinois.
Ipava State Bank | Ipava | Illinois.
Jacksonville SB | Jacksonville | Illinois.
Merchants and Manufacturers Bank | Joliet | Illinois.
NuMark CU | Joliet | Illinois.
Commonwealth CU | Kankakee | Illinois.
Union Federal Savings & Loan Association | Kewanee | Illinois.
Baytree National Bank and Trust Company | Lake Forest | Illinois.
Citizens State Bank | Lena | Illinois.
The State Bank of Lima | Lima | Illinois.
Brickyard Bank | Lincolnwood | Illinois.
Bank & Trust Company | Litchfield | Illinois.
Hardware State Bank | Lovington | Illinois.
First Suburban National Bank | Maywood | Illinois.
Mazon State Bank | Mazon | Illinois.
The First National Bank of McHenry | McHenry | Illinois.
MidCountry Bank | Metropolis | Illinois.
Bank of Montgomery | Montgomery | Illinois.
First National Bank of Nokomis | Nokomis | Illinois.
Nokomis SB | Nokomis | Illinois.
Plaza Bank | Norridge | Illinois.
Northbrook Bank & Trust Company | Northbrook | Illinois.
Rock River Bank | Oregon | Illinois.
First National Bank of Pana | Pana | Illinois.
The Citizens National Bank of Paris | Paris | Illinois.
Peotone Bank & Trust Company | Peotone | Illinois.
Vermilion Valley Bank | Piper City | Illinois.
Port Byron State Bank | Port Byron | Illinois.
First State Bank of Red Bud | Red Bud | Illinois.
Lincoln State Bank, S.B | Rochelle | Illinois.
MWA Bank | Rock Island | Illinois.
The First National Bank of Sandoval | Sandoval | Illinois.
Shelby County State Bank | Shelbyville | Illinois.
Spring Valley City Bank | Spring Valley | Illinois.
First National Bank in Staunton | Staunton | Illinois.
Table Grove State Bank | Table Grove | Illinois.
Capaha Bank, SB | Tamms | Illinois.
State Bank of Toulon | Toulon | Illinois.
The First National Bank in Tremont | Tremont | Illinois.
Community Bank of Trenton | Trenton | Illinois.
Allstate Bank | Vernon Hills | Illinois.
Inland Bank & Trust | Villa Park | Illinois.
North Shore Trust and Savings | Waukegan | Illinois.
Waukegan SB | Waukegan | Illinois.
Western Springs National Bank & Trust | Western Springs | Illinois.
White Hall Bank | White Hall | Illinois.
North Shore Community Bank & Trust Company | Wilmette | Illinois.
Premier Bank | Wilmette | Illinois.
First State Bank of Winchester | Winchester | Illinois.
Bank of Commerce | Wood Dale | Illinois.
Founders Bank | Worth | Illinois.
Prospect FSB | Worth | Illinois.
First Community Bank, Xenia-Flora | Xenia | Illinois.
American National Bank—Fox Cities | Appleton | Wisconsin.
Thrivent Financial Bank | Appleton | Wisconsin.
State Bank of Arcadia | Arcadia | Wisconsin.
First National Bank and Trust | Barron | Wisconsin.
American National Bank of Beaver Dam | Beaver Dam | Wisconsin.
Blackhawk State Bank | Beloit | Wisconsin.
First National Bank of Berlin | Berlin | Wisconsin.
First Business Bank—Milwaukee | Brookfield | Wisconsin.
Badger State Bank | Cassville | Wisconsin.
State Bank of Chilton | Chilton | Wisconsin.
Northwestern Bank | Chippewa Falls | Wisconsin.
Cleveland State Bank | Cleveland | Wisconsin.
DMB Community Bank | De Forest | Wisconsin.
State Bank of Drummond | Drummond | Wisconsin.
Peoples Bank | Elkhorn | Wisconsin.
American Bank | Fond du Lac | Wisconsin.
Badger Bank | Fort Atkinson | Wisconsin.
Peoples Bank of Wisconsin | Hayward | Wisconsin.
Horicon Bank | Horicon | Wisconsin.
Wolf River Community Bank | Hortonville | Wisconsin.
Blackhawk CU | Janesville | Wisconsin.
Bankers' Bank | Madison | Wisconsin.
Summit CU | Madison | Wisconsin.
Farmers State Bank | Markesan | Wisconsin.
Mid-Wisconsin Bank | Medford | Wisconsin.
Empower CU | Milwaukee | Wisconsin.
Legacy Bank | Milwaukee | Wisconsin.
Mitchell Bank | Milwaukee | Wisconsin.
Bank of Monticello | Monticello | Wisconsin.
The Bank of New Glarus | New Glarus | Wisconsin.
First National Community Bank | New Richmond | Wisconsin.
CitizensFirst CU | Oshkosh | Wisconsin.
University of Wisconsin-Oshkosh CU | Oshkosh | Wisconsin.
Palmyra State Bank | Palmyra | Wisconsin.
Bank of Poynette | Poynette | Wisconsin.
Johnson Bank | Racine | Wisconsin.
Community Bank of Northern Wisconsin | Rice Lake | Wisconsin.
Shell Lake State Bank | Shell Lake | Wisconsin.
Eagle Valley Bank, National Association | St. Croix Falls | Wisconsin.
Superior Bank | Superior | Wisconsin.
Shoreline CU | Two Rivers | Wisconsin.
InvestorsBank | Waukesha | Wisconsin.
Sunset Bank & Savings | Waukesha | Wisconsin.
Bank of Wausau | Wausau | Wisconsin.
The Equitable Bank, S.S.B | Wauwatosa | Wisconsin.
Allco CU | West Allis | Wisconsin.
Guardian CU | West Allis | Wisconsin.
Westby Co-op CU | Westby | Wisconsin.
Federal Home Loan Bank of Des Moines—District 8
BNC National Bank | Phoenix | Arizona.
Ackley State Bank | Ackley | Iowa.
Exchange State Bank | Adair | Iowa.
Farmers State Bank | Algona | Iowa.
Legacy Bank | Altoona | Iowa.
Bellevue State Bank | Bellevue | Iowa.
First State Bank | Belmond | Iowa.
Ascentra CU | Bettendorf | Iowa.
Blue Grass SB | Blue Grass | Iowa.
1st Gateway CU | Camanche | Iowa.
Bankers Trust Company, National Association | Cedar Rapids | Iowa.
Collins Community CU | Cedar Rapids | Iowa.
First FCU | Cedar Rapids | Iowa.
Village Bank & Trust Company | Cedar Rapids | Iowa.
Columbus Junction State Bank | Columbus Junction | Iowa.
Freedom Security Bank | Coralville | Iowa.
Iowa State SB | Creston | Iowa.
State SB | Creston | Iowa.
The First National Bank in Creston | Creston | Iowa.
Decorah Bank & Trust Company | Decorah | Iowa.
Dupaco Community CU | Dubuque | Iowa.
The Grundy National Bank of Grundy Center | Grundy Center | Iowa.
Security State Bank | Guttenberg | Iowa.
Hampton State Bank | Hampton | Iowa.
Hartwick State Bank | Hartwick | Iowa.
Best of Iowa Community CU | Hiawatha | Iowa.
Hiawatha Bank and Trust Company | Hiawatha | Iowa.
Community State Bank | Indianola | Iowa.
Green Belt Bank & Trust | Iowa Falls | Iowa.
Farmers State Bank | Lake View | Iowa.
Farmers State Bank | Marion | Iowa.
United Bank & Trust, NA | Marshalltown | Iowa.
Interstate Federal Savings and Loan Association | McGregor | Iowa.
First National Bank of Muscatine | Muscatine | Iowa.
Security State Bank | New Hampton | Iowa.
First Community Bank | Newell | Iowa.
Community 1st CU | Ottumwa | Iowa.
South Ottumwa SB | Ottumwa | Iowa.
Leighton State Bank | Pella | Iowa.
The City National Bank of Shenandoah | Shenandoah | Iowa.
First National Bank | Sioux Center | Iowa.
Liberty National Bank | Sioux City | Iowa.
The Security National Bank of Sioux City, Iowa | Sioux City | Iowa.
Heartland Bank | Somers | Iowa.
Farmers Trust and SB | Spencer | Iowa.
State Bank | Spencer | Iowa.
The Citizens First National Bank of Storm Lake | Storm Lake | Iowa.
Titonka SB | Titonka | Iowa.
Treynor State Bank | Treynor | Iowa.
West Chester SB | Washington | Iowa.
Community National Bank | Waterloo | Iowa.
Waukon State Bank | Waukon | Iowa.
First National Bank | Waverly | Iowa.
Peoples SB | Wellsburg | Iowa.
Farmers SB | Wever | Iowa.
1st Regents Bank | Andover | Minnesota.
Arlington State Bank | Arlington | Minnesota.
Atwater State Bank | Atwater | Minnesota.
The First National Bank of Brewster | Brewster | Minnesota.
City-County FCU | Brooklyn Center | Minnesota.
Eitzen State Bank | Caledonia | Minnesota.
Cambridge State Bank | Cambridge | Minnesota.
Peoples Bank of Commerce | Cambridge | Minnesota.
Maple Bank | Champlin | Minnesota.
State Bank of Chandler | Chandler | Minnesota.
First National Bank | Chisholm | Minnesota.
Clinton State Bank | Clinton | Minnesota.
State Bank of Cold Spring | Cold Spring | Minnesota.
First Advantage Bank | Coon Rapids | Minnesota.
Crookston National Bank | Crookston | Minnesota.
State Bank of Easton | Easton | Minnesota.
American Investors Bank and Mortgage | Eden Prairie | Minnesota.
The First National Bank of Fairfax | Fairfax | Minnesota.
Spire FCU | Falcon Heights | Minnesota.
Premier Bank Minnesota | Farmington | Minnesota.
Mainstreet Bank | Forest Lake | Minnesota.
First State Bank of Fountain | Fountain | Minnesota.
Citizens State Bank of Glenville | Glenville | Minnesota.
First Security Bank—Hendricks | Hendricks | Minnesota.
Community Pride Bank | Isanti | Minnesota.
Jackson Federal Savings and Loan Association | Jackson | Minnesota.
Janesville State Bank | Janesville | Minnesota.
Citizens State Bank of Kelliher | Kelliher | Minnesota.
Security State Bank of Kenyon | Kenyon | Minnesota.
Minnstar Bank, National Association | Lake Crystal | Minnesota.
Provincial Bank | Lakeville | Minnesota.
First Farmers & Merchants National Ban | Le Sueur | Minnesota.
Lake Community Bank | Long Lake | Minnesota.
Frandsen Bank and Trust | Lonsdale | Minnesota.
21st Century Bank | Loretto | Minnesota.
First National Bank in Mahnomen | Mahnomen | Minnesota.
Eagle Community Bank | Maple Grove | Minnesota.
Bank of Maple Plain | Maple Plain | Minnesota.
Private Bank Minnesota | Minneapolis | Minnesota.
Peoples National Bank of Mora | Mora | Minnesota.
Citizens Bank Minnesota | New Ulm | Minnesota.
Community Resource Bank | Northfield | Minnesota.
The First National Bank of Northfield | Northfield | Minnesota.
Community Development Bank, FSB | Ogema | Minnesota.
Riverview Community Bank | Otsego | Minnesota.
First National Bank of Henning (The) | Ottertail | Minnesota.
Pine River State Bank | Pine River | Minnesota.
Community Bank Plymouth | Plymouth | Minnesota.
Unity Bank North | Red Lake Falls | Minnesota.
North American Banking Company | Roseville | Minnesota.
Rushford State Bank | Rushford | Minnesota.
American Bank of St. Paul | Saint Paul | Minnesota.
Drake Bank | Saint Paul | Minnesota.
University National Bank | Saint Paul | Minnesota.
Western Bank | Saint Paul | Minnesota.
Mills Resolute Bank | Sanborn | Minnesota.
Citizens State Bank of Shakopee | Shakopee | Minnesota.
Americana Community Bank | Sleepy Eye | Minnesota.
Heritage Bank National Association | Spicer | Minnesota.
First National Bank at St. James | St. James | Minnesota.
St. Martin National Bank | St. Martin | Minnesota.
Hiway FCU | St. Paul | Minnesota.
St. Paul FCU | St. Paul | Minnesota.
St. Stephen State Bank | St. Stephen | Minnesota.
State Bank of Taunton | Taunton | Minnesota.
Profinium Financial, Inc | Truman | Minnesota.
Vermillion State Bank | Vermillion | Minnesota.
Northern State Bank of Virginia, Minnesota | Virginia | Minnesota.
First State Bank of Wabasha | Wabasha | Minnesota.
Merchants Bank, National Association | Winona | Minnesota.
First State Bank of Wyoming | Wyoming | Minnesota.
Bank of Zumbrota | Zumbrota | Minnesota.
Bank of Belton | Belton | Missouri.
Citizens Bank of Blythedale | Blythedale | Missouri.
Cabool State Bank | Cabool | Missouri.
Flowers National Bank | Cainsville | Missouri.
Alliance Bank | Cape Girardeau | Missouri.
The First National Bank of Carrollton | Carrollton | Missouri.
Freedom Bank of Southern Missouri | Cassville | Missouri.
Heritage Community Bank | Chamois | Missouri.
Mississippi County Savings & Loan Association | Charleston | Missouri.
First National Bank of St. Louis | Clayton | Missouri.
The Business Bank of St. Louis | Clayton | Missouri.
Shelter Financial Bank | Columbia | Missouri.
The Boone County National Bank of Columbia | Columbia | Missouri.
The Corder Bank | Corder | Missouri.
Mid America Bank & Trust Company | Dixon | Missouri.
Peoples Community State Ban | Doniphan | Missouri.
Citizens Bank of Edina (The) | Edina | Missouri.
Commercial Trust Company of Fayette | Fayette | Missouri.
Exchange Bank of Missouri | Fayette | Missouri.
First Commercial Bank | Gideon | Missouri.
Bank of Gower | Gower | Missouri.
Farmers Bank of Green City | Green City | Missouri.
Peoples Community Bank | Greenville | Missouri.
Bank of Hillsboro | Hillsboro | Missouri.
Home Exchange Bank | Jamesport | Missouri.
Peoples Bank of Moniteau County | Jamestown | Missouri.
Jefferson Bank of Missouri | Jefferson City | Missouri.
Peoples Bank of Wyaconda | Kahoka | Missouri.
Central Bank of Kansas City | Kansas City | Missouri.
CommunityAmerica CU | Kansas City | Missouri.
Kearney Trust Co | Kearney | Missouri.
Town & Country Bank of Missouri | La Grange | Missouri.
Goppert Financial Bank | Lathrop | Missouri.
Lawson Bank | Lawson | Missouri.
Heritage Bank of the Ozarks | Lebanon | Missouri.
United State Bank | Lewistown | Missouri.
Patriots Bank | Liberty | Missouri.
Bank of Louisiana | Louisiana | Missouri.
Mercantile Bank of Louisiana, Mo. (The) | Louisiana | Missouri.
Bank of Monticello | Monticello | Missouri.
Chester National Bank of Missouri | Perryville | Missouri.
First Missouri State Bank | Poplar Bluff | Missouri.
First State Bank of Purdy | Purdy | Missouri.
Southwest Bank of St. Louis | Saint Louis | Missouri.
Seymour Bank (The) | Seymour | Missouri.
State Bank of Slater | Slater | Missouri.
Metropolitan National Bank | Springfield | Missouri.
State Bank of Southwest Missouri | Springfield | Missouri.
Bank of St. Elizabeth | St. Elizabeth | Missouri.
Commercial Bank | St. Louis | Missouri.
St. Johns Bank and Trust Company | St. Louis | Missouri.
St. Louis Community CU | St. Louis | Missouri.
Stifel Bank & Trust | St. Louis | Missouri.
Truman Bank | St. Louis | Missouri.
American Sterling Bank | Sugar Creek | Missouri.
American Bank of Missouri | Wellsville | Missouri.
VUE Community CU | Bismarck | North Dakota.
State Bank of Bottineau | Bottineau | North Dakota.
Heartland State Bank | Edgeley | North Dakota.
Bank of Glen Ullin | Glen Ullin | North Dakota.
Bremer Bank, National Association | Grand Forks | North Dakota.
Unison Bank | Jamestown | North Dakota.
North Country Bank, National Association | McClusky | North Dakota.
First United Bank | Park River | North Dakota.
Northland Financial | Steele | North Dakota.
Peoples State Bank of Velva | Velva | North Dakota.
Peoples State Bank | Westhope | North Dakota.
Security State Bank | Wishek | North Dakota.
Dakota State Bank | Blunt | South Dakota.
Merchants State Bank | Freeman | South Dakota.
Valley Exchange Bank | Lennox | South Dakota.
First National Bank in Philip | Philip | South Dakota.
BankWest, Inc | Pierre | South Dakota.
Dakota Prairie Bank | Presho | South Dakota.
First State Bank of Roscoe | Roscoe | South Dakota.
Wells Fargo Bank, National Association | Sioux Falls | South Dakota.
American Bank & Trust | Wessington Spring | South Dakota.
First Bank of White | White | South Dakota.
First Dakota National Bank | Yankton | South Dakota.
Federal Home Loan Bank of Dallas—District 9
Summit Bank | Arkadelphia | Arkansas.
The Citizens Bank | Batesville | Arkansas.
Pinnacle Bank | Bentonville | Arkansas.
Bank of Cave City | Cave City | Arkansas.
First National Bank of Crossett | Crossett | Arkansas.
Bank of Delight | Delight | Arkansas.
DeWitt Bank and Trust Company | DeWitt | Arkansas.
Simmons First Bank of El Dorado, NA | El Dorado | Arkansas.
Bank of Arkansas, N.A | Fayetteville | Arkansas.
Twin Lakes Community Bank | Flippin | Arkansas.
Little River Bank | Lepanto | Arkansas.
Metropolitan National Bank | Little Rock | Arkansas.
Malvern National Bank | Malvern | Arkansas.
First National Bank of Mcgehee | Mcgehee | Arkansas.
Merchants & Planters Bank | Newport | Arkansas.
National Bank of Arkansas North | Little Rock | Arkansas.
Piggott State Bank | Piggott | Arkansas.
Security Bank | Stephens | Arkansas.
First National Bank of Lawrence County | Walnut Ridge | Arkansas.
First State Bank of Warren | Warren | Arkansas.
Southern Bancorp Bank, N.A | West Helena | Arkansas.
Cross County Bank | Wynne | Arkansas.
Basile State Bank | Basile | Louisiana.
American Bank & Trust Company | Covington | Louisiana.
First National Bank of Louisiana | Crowley | Louisiana.
Commercial Capital Bank | Delhi | Louisiana.
State Bank & Trust Company | Golden Meadow | Louisiana.
First Community Bank | Hammond | Louisiana.
First National Bank of Jeanerette | Jeanerette | Louisiana.
Kaplan State Bank | Kaplan | Louisiana.
Sabine State B&T Company | Many | Louisiana.
Exchange Bank & Trust Company | Natchitoches | Louisiana.
Liberty Bank and Trust Co | New Orleans | Louisiana.
West Carroll Community Bank | Oak Grove | Louisiana.
St. Landry Homestead | Opelousas | Louisiana.
Dow Louisiana FCU | Plaquemine | Louisiana.
Sicily Island State Bank | Sicily Island | Louisiana.
Carter FCU | Springhill | Louisiana.
Cross Keys Bank | St. Joseph | Louisiana.
St. Martin Bank & Trust Co | St. Martinville | Louisiana.
Concordia Bank & Trust Co | Vidalia | Louisiana.
Evangeline Bank & Trust | Ville Platte | Louisiana.
Bank of Winnfield & Trust Co | Winnfield | Louisiana.
Progressive Bank | Winnsboro | Louisiana.
Winnsboro State Bank & Trust Company | Winnsboro | Louisiana.
Community Bank, North Mississippi | Amory | Mississippi.
First Security Bank | Batesville | Mississippi.
BankPlus | Belzoni | Mississippi.
Keesler FCU | Biloxi | Mississippi.
Peoples Bank of the South | Bude | Mississippi.
Citizens Bank | Byhalia | Mississippi.
Metropolitan Bank | Crystal Springs | Mississippi.
Commercial Bank | DeKalb | Mississippi.
Community Bank | Ellisville | Mississippi.
Community Bank of Mississippi | Forest | Mississippi.
Bank of Commerce | Greenwood | Mississippi.
First State Bank | Holly Springs | Mississippi.
Merchants & Farmers Bank | Holly Springs | Mississippi.
Century Bank | Lucedale | Mississippi.
Madison County Bank | Madison | Mississippi.
Citizens National Bank of Meridian | Meridian | Mississippi.
Great Southern National Bank | Meridian | Mississippi.
Newton County Bank | Newton | Mississippi.
Oxford University Bank | Oxford | Mississippi.
The First National Bank of Oxford | Oxford | Mississippi.
Mississippi Telco FCU | Pearl | Mississippi.
Citizens Bank | Philadelphia | Mississippi.
Renasant Bank | Tupelo | Mississippi.
Otero FCU | Alamogordo | New Mexico.
Sandia Area FCU | Albuquerque | New Mexico.
My Bank | Belen | New Mexico.
The Carlsbad National Bank | Carlsbad | New Mexico.
Citizens Bank of Clovis | Clovis | New Mexico.
Four Corners Community Bank | Farmington | New Mexico.
Western Bank | Lordsburg | New Mexico.
Community Bank | Santa Fe | New Mexico.
Del Norte CU | Santa Fe | New Mexico.
AmBank | Silver City | New Mexico.
Centinel Bank of Taos | Taos | New Mexico.
First National Bank Albany/Breckenridge | Albany | Texas.
First Community Bank | Alice | Texas.
Amarillo National Bank | Amarillo | Texas.
Commercial State Bank | Andrews | Texas.
The National Bank of Andrews | Andrews | Texas.
American State Bank | Arp | Texas.
Business Bank of Texas, N.A | Austin | Texas.
Community State Bank | Austin | Texas.
Treaty Oak Bank | Austin | Texas.
The First National Bank of Bastrop | Bastrop | Texas.
Mobil Oil FCU | Beaumont | Texas.
Community National Bank | Bellaire | Texas.
Austin County State Bank | Bellville | Texas.
Brady National Bank | Brady | Texas.
Bank Brenham, NA | Brenham | Texas.
First State Bank of Brownsboro | Brownsboro | Texas.
Citizens State Bank | Buffalo | Texas.
First State Bank of Canadian, NA | Canadian | Texas.
Citizens Bank | Claude | Texas.
First Bank of West Texas | Coahoma | Texas.
Comanche National Bank (The) | Comanche | Texas.
Crosby State Bank | Crosby | Texas.
Crowell State Bank | Crowell | Texas.
Texas Heritage National Bank | Daingerfield | Texas.
Grand Bank | Dallas | Texas.
Jefferson Bank | Dallas | Texas.
Texas Capital Bank, N.A | Dallas | Texas.
Tolleson Private Bank | Dallas | Texas.
Farmers and Merchants Bank | De Leon | Texas.
Eden State Bank | Eden | Texas.
First National Bank | Edinburg | Texas.
United Bank of El Paso Del Norte | El Paso | Texas.
Ennis State Bank | Ennis | Texas.
First National Bank of Fabens | Fabens | Texas.
Town North National Bank | Farmers Branch | Texas.
Fayetteville Bank | Fayetteville | Texas.
First Security Bank, National Association | Flower Mound | Texas.
Fort Davis State Bank | Fort Davis | Texas.
EECU | Fort Worth | Texas.
Texas Gulf Bank, NA | Freeport | Texas.
Texas Brand Bank | Garland | Texas.
First National Bank in Graham | Graham | Texas.
First National Bank of Granbury | Granbury | Texas.
Grandview Bank | Grandview | Texas.
Bank of the West | Grapevine | Texas.
Peoples State Bank of Hallettsville | Hallettsville | Texas.
The First National Bank of Hebbronville | Hebbronville | Texas.
Allegiance Bank Texas | Houston | Texas.
Bank of River Oaks (The) | Houston | Texas.
Chasewood Bank | Houston | Texas.
First Community CU | Houston | Texas.
Independence Bank, National Association | Houston | Texas.
Integrity Bank, SSB | Houston | Texas.
People's Trust FCU | Houston | Texas.
Wachovia Bank, FSB | Houston | Texas.
Third Coast Bank, SSB | Humble | Texas.
First National Bank of Huntsville | Huntsville | Texas.
First State Bank | Huntsville | Texas.
Independent Bank of Texas | Irving | Texas.
First National Bank of Jasper | Jasper | Texas.
Citizens Bank | Kilgore | Texas.
Star Bank of Texas | Lake Worth | Texas.
First National Bank of Linden | Linden | Texas.
First National Bank of Livingston | Livingston | Texas.
First State Bank of Livingston | Livingston | Texas.
MyLubbockBank | Lubbock | Texas.
First State Bank of Mineral Wells | Mineral Wells | Texas.
Lone Star Bank, SSB | Moulton | Texas.
Equity Bank, SSB | Mount Vernon | Texas.
Muleshoe State Bank | Muleshoe | Texas.
Century Bank, N.A | New Boston | Texas.
Liberty Bank North | Richlan | Texas.
Pearland State Bank | Pearland | Texas.
Texas First State Bank | Riesel | Texas.
Texas State Bank | San Angelo | Texas.
Lone Star Capital Bank, N.A | San Antonio | Texas.
San Antonio FCU | San Antonio | Texas.
Security Service FCU | San Antonio | Texas.
United San Antonio Community FCU | San Antonio | Texas.
Santa Anna National Bank | Santa Anna | Texas.
First State Bank | Smithville | Texas.
Community Bank of Synder | Snyder | Texas.
First Financial Bank, N.A | Stephenville | Texas.
First National Bank | Sweetwater | Texas.
Commercial NB of Texarkana | Texarkana | Texas.
Texar FCU | Texarkana | Texas.
Texas Community Bank, NA | The Woodlands | Texas.
Randolph-Brooks FCU | Universal City | Texas.
First State Bank of Uvalde | Uvalde | Texas.
Waggoner National Bank of Vernon | Vernon | Texas.
American Bank, National Association | Waco | Texas.
Pilgram Bank Texas | Wellington | Texas.
Wellington State Bank | Wellington | Texas.
Pointwest Bank | West | Texas.
Union Square FCU | Wichita Falls | Texas.
Citizens National Bank of Wills Point | Wills Point | Texas.
The First National Bank of Winnsboro | Winnsboro | Texas.
Security State Bank (The) | Winters | Texas.
Federal Home Loan Bank of Topeka—District 10
FirstBank of Arvada | Arvada | Colorado.
FirstBank of Aurora | Aurora | Colorado.
Elevations CU | Boulder | Colorado.
FirstBank of Douglas County | Castle Rock | Colorado.
Air Academy FCU | Colorado Springs | Colorado.
American National Bank | Denver | Colorado.
United Western Bank | Denver | Colorado.
Bank of Choice | Greeley | Colorado.
First FarmBank | Greeley | Colorado.
First National Bank of Hugo | Hugo | Colorado.
FirstBank of Lakewood | Lakewood | Colorado.
Community State Bank | Lamar | Colorado.
FirstBank | Littleton | Colorado.
FirstBank of Littleton | Littleton | Colorado.
FirstBank of Summit County | Silverthorne | Colorado.
FirstBank of Wheat Ridge | Wheat Ridge | Colorado.
Colorado Community Bank | Yuma | Colorado.
Kansasland Bank | Americus | Kansas.
New Century Bank, National Association | Belleville | Kansas.
The First State Bank of Burlingame | Burlingame | Kansas.
Community National Bank | Chanute | Kansas.
Pony Express Community Bank | Elwood | Kansas.
ESB Financial | Emporia | Kansas.
Home State Bank | Erie | Kansas.
Home Bank & Trust Company of Eureka | Eureka | Kansas.
The Union State Bank of Everest | Everest | Kansas.
Signature Bank KC | Haddam | Kansas.
Farmers State Bank (The) | Holton | Kansas.
Millennium Bank | Junction City | Kansas.
Fnb & Trust Company in Larned | Larned | Kansas.
First Commerce Bank | Marysville | Kansas.
First Security Bank & Trust Company | Norton | Kansas.
The Bank | Oberlin | Kansas.
Bank of the Prairie | Olathe | Kansas.
Bank of Prairie Village | Prairie Village | Kansas.
Riley State Bank of Riley | Riley | Kansas.
First State Bank & Trust | Tonganoxie | Kansas.
Capital City Bank | Topeka | Kansas.
Core First Bank & Trust | Topeka | Kansas.
Fidelity State Bank & Trust Company | Topeka | Kansas.
Farmers & Merchants State Bank | Wakefield | Kansas.
First National Bank of Washington | Washington | Kansas.
The Wellsville Bank | Wellsville | Kansas.
Farmers State Bank of Westmoreland | Westmoreland | Kansas.
Kansas Corporate CU | Wichita | Kansas.
Meritrust CU | Wichita | Kansas.
Carson National Bank of Auburn | Auburn | Nebraska.
Farmers & Merchants State Bank | Bloomfield | Nebraska.
Nebraska State Bank & Trust Company | Broken Bow | Nebraska.
Cozad State Bank and Trust Company | Cozad | Nebraska.
Curtis State Bank | Curtis | Nebraska.
American Exchange Bank | Elmwood | Nebraska.
Exchange Bank | Gibbon | Nebraska.
First State Bank | Gothenburg | Nebraska.
City National Bank of Greeley | Greeley | Nebraska.
FirsTier Bank | Kimball | Nebraska.
Bank of Nebraska | La Vista | Nebraska.
Cornhusker Bank | Lincoln | Nebraska.
West Gate Bank | Lincoln | Nebraska.
Bank of Lindsay | Lindsay | Nebraska.
Lisco State Bank | Lisco | Nebraska.
Home State Bank | Louisville | Nebraska.
Amfirst Bank, National Association | McCook | Nebraska.
Bank of Mead | Mead | Nebraska.
Farmers & Merchants Bank | Milford | Nebraska.
Access Bank | Omaha | Nebraska.
Centris FCU | Omaha | Nebraska.
First Nebraska Educators & Employee Groups C.U | Omaha | Nebraska.
SAC FCU | Omaha | Nebraska.
UP Connection FCU | Omaha | Nebraska.
Nebraska State Bank | Oshkosh | Nebraska.
First State Bank | Randolph | Nebraska.
First State Bank | Scottsbluff | Nebraska.
The Cattle National Bank of Seward | Seward | Nebraska.
Siouxland National Bank South | Sioux City | Nebraska.
First Tri-County Bank | Swanton | Nebraska.
The First National Bank of Valentine | Valentine | Nebraska.
Charter West National Bank | West Point | Nebraska.
F&M Bank, National Association | West Point | Nebraska.
Winside State Bank | Winside | Nebraska.
FirstBank | Antlers | Oklahoma.
Ameristate Bank | Atoka | Oklahoma.
Bank of Beaver City | Beaver | Oklahoma.
Home National Bank | Blackwell | Oklahoma.
Washita State Bank | Burns Flat | Oklahoma.
Bank of Commerce | Chelsea | Oklahoma.
ACB Bank | Cherokee | Oklahoma.
Shamrock Bank, National Association | Coalgate | Oklahoma.
Bank of Commerce | Duncan | Oklahoma.
Prime Bank | Edmond | Oklahoma.
Grand FSB | Grove | Oklahoma.
First National Bank | Heavener | Oklahoma.
American Exchange Bank | Henryetta | Oklahoma.
Bank 7 | Medford | Oklahoma.
The First National Bk and TC of Miami | Miami | Oklahoma.
Citizens State Bank | Morrison | Oklahoma.
Okemah National Bank | Okemah | Oklahoma.
Bank 2 | Oklahoma City | Oklahoma.
FAA Employees CU | Oklahoma City | Oklahoma.
Midfirst Bank | Oklahoma City | Oklahoma.
Weokie CU | Oklahoma City | Oklahoma.
First Bank of Owasso | Owasso | Oklahoma.
First National Bank in Pawhuska | Pawhuska | Oklahoma.
First National Bank of Pawnee | Pawnee | Oklahoma.
Payne County Bank | Perkins | Oklahoma.
First National Bank, Sallisaw | Sallisaw | Oklahoma.
First National Bank of Seiling | Seiling | Oklahoma.
The Stillwater National Bank and TC | Stillwater | Oklahoma.
First State Bank | Tahlequah | Oklahoma.
The First National Bank of Thomas | Thomas | Oklahoma.
Peoples Bank | Tulsa | Oklahoma.
Summit Bank | Tulsa | Oklahoma.
Tulsa Federal Employees CU | Tulsa | Oklahoma.
FNB&T Company of Weatherford | Weatherford | Oklahoma.
First National Bank in Wewoka | Wewoka | Oklahoma.
Federal Home Loan Bank of San Francisco—District 11
First State Bank | Flagstaff | Arizona.
Arrowhead Community Bank | Glendale | Arizona.
Alliance Bank of Arizona | Phoenix | Arizona.
Arizona FCU | Phoenix | Arizona.
Goldwater Bank, N.A | Scottsdale | Arizona.
Canyon Community Bank, N.A | Tucson | Arizona.
Aea FCU | Yuma | Arizona.
Yuma Community Bank | Yuma | Arizona.
First Commercial Bank (USA) | Alhambra | California.
Omni Bank, N.A | Alhambra | California.
Premier Commercial Bank, N.A | Anaheim | California.
Foothill FCU | Arcadia | California.
Kern Schools FCU | Bakersfield | California.
Golden Valley Bank | Chico | California.
Chino Commercial Bank, N.A | Chino | California.
Vibra Bank | Chula Vista | California.
Central Valley Community Bank | Clovis | California.
Bank of Manhattan, N.A | El Segundo | California.
Coast Central CU | Eureka | California.
Fresno County FCU | Fresno | California.
Security First Bank | Fresno | California.
US Metro Bank | Garden Grove | California.
Community West Bank, N.A | Goleta | California.
First Private Bank & Trust | Granada Hills | California.
South Western FCU | La Habra | California.
California Bank of Commerce | Lafayette | California.
Farmers & Merchants Bank of Central California | Lodi | California.
American Business Bank | Los Angeles | California.
Center Bank | Los Angeles | California.
Community Commerce Bank | Los Angeles | California.
Far East National Bank | Los Angeles | California.
First Regional Bank | Los Angeles | California.
GBC International Bank | Los Angeles | California.
Nara Bank | Los Angeles | California.
Wilshire State Bank | Los Angeles | California.
Kinecta FCU | Manhattan Beach | California.
Partners Bank of California | Mission Viejo | California.
BBVA Bancomer USA | Moreno Valley | California.
Napa Community Bank | Napa | California.
Citizens Bank of Northern California | Nevada City | California.
California Republic Bank | Newport Beach | California.
Orange County Business Bank | Newport Beach | California.
Safe CU | North Highland | California.
Ventura County Business Bank | Oxnard | California.
Canyon National Bank | Palm Springs | California.
Private Bank of the Peninsula (The) | Palo Alto | California.
OneWest Bank, FSB | Pasadena | California.
Professional Business Bank | Pasadena | California.
Valley Community Bank | Pleasanton | California.
First Business Bank, National Association | Ramona | California.
American River Healthpro CU | Rancho Cordova | California.
South County Bank, N.A | Rancho Santa | California.
Embarcadero Bank | San Diego | California.
Home Bank of California | San Diego | California.
Miramar FCU | San Diego | California.
Point Loma CU | San Diego | California.
San Diego Metropolitan CU | San Diego | California.
Sunrise Bank of San Diego | San Diego | California.
Torrey Pines Bank | San Diego | California.
University & State Employees CU | San Diego | California.
JPMorgan Bank and Trust Company, National Associat | San Francisco | California.
Mission National Bank | San Francisco | California.
Northeast Community FCU | San Francisco | California.
Oceanic Bank | San Francisco | California.
Mega Bank | San Gabriel | California.
Alliance CU | San Jose | California.
Coast National Bank | San Luis Obis | California.
San Luis Trust Bank, FSB | San Luis Obis | California.
Discovery Bank | San Marcos | California.
American Security Bank | Santa Ana | California.
Orange Countys CU | Santa Ana | California.
Bridge Bank of Silicon Valley, NA | Santa Clara | California.
Silicon Valley Bank | Santa Clara | California.
Bank of Santa Clarita | Santa Clarita | California.
Community Bank of Santa Maria | Santa Maria | California.
Pacific Western Bank | Santa Monica | California.
Pacific State Bank | Stockton | California.
Sunwest Bank | Tustin | California.
Affinity Bank | Ventura | California.
County Commerce Bank | Ventura | California.
Ventura County CU | Ventura | California.
Suncrest Bank | Visalia | California.
Black Mountain Community Bank | Henderson | Nevada.
Bank of George | Las Vegas | Nevada.
Bank of Las Vegas | Las Vegas | Nevada.
Red Rock Community Bank | Las Vegas | Nevada.
Sun West Bank | Las Vegas | Nevada.
Town & Country Bank | Las Vegas | Nevada.
Heritage Bank of Nevada | Reno | Nevada.
Federal Home Loan Bank of Seattle—District 12
Denali State Bank | Fairbanks | Alaska.
Tongass FCU | Ketchikan | Alaska.
Native American Bank, National Association | Denver | Colorado.
Aloha Pacific FCU | Honolulu | Hawaii.
Hawaii FCU | Honolulu | Hawaii.
Hawaii Schools FCU | Honolulu | Hawaii.
Idaho Trust Bank | Boise | Idaho.
Western Capital Bank | Boise | Idaho.
East Idaho CU | Idaho Falls | Idaho.
Citizens Community Bank | Pocatello | Idaho.
Rocky Mountain Bank | Billings | Montana.
Valley FCU of Montana | Billings | Montana.
Mountain West Bank of Helena, NA | Helena | Montana.
Three Rivers Bank of Montana | Kalispell | Montana.
West One Bank | Kalispell | Montana.
Western Security Bank | Kalispell | Montana.
First Bank of Montana | Lewistown | Montana.
Bitterroot Valley Bank | Lolo | Montana.
Missoula FCU | Missoula | Montana.
Flint Creek Valley Bank | Philipsburg | Montana.
Farmers State Bank | Victor | Montana.
Western Bank of Wolf Point | Wolf Point | Montana.
Willamette Community Bank | Albany | Oregon.
Oregon Community CU | Coquille | Oregon.
Pacific Crest FCU | Klamath Falls | Oregon.
Bank of Oswego (The) | Lake Oswego | Oregon.
Northwest Bank Lake | Oswego | Oregon.
Rogue FCU | Medford | Oregon.
Oregon Coast Bank | Newport | Oregon.
Capital Pacific Bank | Portland | Oregon.
Commerce Bank of Oregon (The) | Portland | Oregon.
Pacific NW FCU | Portland | Oregon.
Marion and Polk Schools CU | Salem | Oregon.
Republic Bank, Inc | Bountiful | Utah.
First National Bank of Layton | Layton | Utah.
Capmark Bank | Midvale | Utah.
Frontier Bank, FSB | Park City | Utah.
Capital Community Bank | Provo | Utah.
SunFirst Bank | Saint George | Utah.
BMW Bank of North America | Salt Lake City | Utah.
Celtic Bank Corporation | Salt Lake City | Utah.
Deseret First CU | Salt Lake City | Utah.
Utah Central CU | Salt Lake City | Utah.
Wells Fargo Bank Northwest, NA | Salt Lake City | Utah.
Wright Express Financial Service Corp | Salt Lake City | Utah.
The Village Bank | St. George | Utah.
Anchor Mutual SB | Aberdeen | Washington.
The Bank of the Pacific | Aberdeen | Washington.
Eastside Commercial Bank, NA | Bellevue | Washington.
North Coast CU | Bellingham | Washington.
Whatcom Educational CU | Bellingham | Washington.
Lacamas Community CU | Camas | Washington.
Security State Bank | Centralia | Washington.
North Cascades National Bank | Chelan | Washington.
Bank of Whitman | Colfax | Washington.
America's CU, a FCU | Fort Lewis | Washington.
Islanders Bank | Friday Harbor | Washington.
Community First Bank | Kennewick | Washington.
Pacific Crest SB | Lynnwood | Washington.
Prime Pacific Bank, NA | Lynnwood | Washington.
1st Security Bank of Washington | Mountlake Terrace | Washington.
Fortune Bank | Seattle | Washington.
HomeStreet Bank | Seattle | Washington.
Pacific International Bank | Seattle | Washington.
Plaza Bank | Seattle | Washington.
Regal Financial Bank | Seattle | Washington.
Seattle Metropolitan CU | Seattle | Washington.
Sound Community Bank | Seattle | Washington.
Global CU | Spokane | Washington.
O Bee CU | Tumwater | Washington.
First Independent Bank | Vancouver | Washington.
Yakima National Bank | Yakima | Washington.
Yakima Valley CU | Yakima | Washington.
Security State Bank | Basin | Wyoming.
Cheyenne State Bank | Cheyenne | Wyoming.
First National Bank of Wyoming | Laramie | Wyoming.
UniWyo FCU | Laramie | Wyoming.
The Rawlins National Bank | Rawlins | Wyoming.
First State Bank | Wheatland | Wyoming.

II. Public Comments

To encourage the submission of public comments on the community support performance of Bank members, on or before July 24, 2009, each Bank will notify its Advisory Council and nonprofit housing developers, community groups, and other interested parties in its district of the members selected for community support review in the 2008-09 sixth quarter review cycle. 12 CFR 944.2(b)(2)(ii). In reviewing a member for community support compliance, FHFA will consider any public comments it has received concerning the member. 12 CFR 944.2(d). To ensure consideration by FHFA, comments concerning the community support performance of members selected for the 2008-09 sixth quarter review cycle must be delivered to FHFA, either by hard-copy mail at the Federal Housing Finance Agency, Housing Mission and Goals, 1625 Eye Street, NW., Washington, DC 20006, or by electronic mail at LENORA.MORTON@FHFA.GOV on or before the August 31, 2009 deadline for submission of Community Support Statements.

Dated: July 7, 2009.
James B. Lockhart III,
Director, Federal Housing Finance Agency.

[FR Doc. E9-16390 Filed 7-9-09; 8:45 am]

BILLING CODE 8070-01-P